DEPARTMENT OF LABOR

Employment and Training Administration

[TA-W-54,243]

Tateishi of America, Inc., Pineville, NC; Dismissal of Application for Reconsideration

Pursuant to 29 CFR 90.18(C) an application for administrative reconsideration was filed with the Director of the Division of Trade Adjustment Assistance for workers at Tateishi of America, Inc., Pineville, North Carolina. The application contained no new substantial information which would bear importantly on the Department's determination. Therefore, dismissal of the application was issued.

TA-W-54,243; Tateishi of America, Inc., Pineville, North Carolina (April 28, 2004).

Signed in Washington, DC this 3rd day of May, 2004.
Timothy Sullivan,
Director, Division of Trade Adjustment Assistance.

[FR Doc. E4-1062 Filed 5-7-04; 8:45 am]

BILLING CODE 4510-13-P